DEPARTMENT OF TRANSPORTATION

Federal Aviation Administration

14 CFR Part 39

[Docket No. FAA-2011-0648; Directorate Identifier 2010-NM-276-AD]

RIN 2120-AA64

Airworthiness Directives; Bombardier, Inc. Model CL-600-2B19 (Regional Jet Series 100 & 440) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Seven cases of on-ground hydraulic accumulator screw cap/end cap failure have been experienced on CL-600-2B19 aeroplanes, resulting in the loss of the associated hydraulic system and high-energy impact damage to adjacent systems and structure. * * *

* * * * *

A detailed analysis of the calculated line of trajectory of a failed screw cap/end cap for each of the accumulators has been conducted, resulting in the identification of several areas where systems and/or structural components could potentially be damaged. Although all of the failures to date have occurred on the ground, an in-flight failure affecting such components could potentially have an adverse effect on the controllability of the aeroplane.

* * * * *

The proposed AD would require actions that are intended to address the unsafe condition described in the MCAI.

DATES: We must receive comments on this proposed AD by August 15, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe and Mechanical Systems Branch, ANE-171, FAA, New York Aircraft Certification Office (ACO), 1600 Stewart Avenue, Suite 410, Westbury, New York 11590; telephone (516) 228-7340; fax (516) 794-5531.

SUPPLEMENTARY INFORMATION:

Comments Invited

We invite you to send any written relevant data, views, or arguments about this proposed AD. Send your comments to an address listed under the ADDRESSES section. Include “Docket No. FAA-2011-0648; Directorate Identifier 2010-NM-276-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 7, 2010, we issued AD 2010-22-02, Amendment 39-16481 (75 FR 64636, October 20, 2010). That AD required actions intended to address an unsafe condition on Bombardier, Inc. Model CL-600-2B19 (Regional Jet Series 100 & 440) airplanes.

Since we issued AD 2010-22-02, we have determined that further rulemaking is necessary. While AD 2010-22-02 did not require the removal of the hydraulic system No. 3 accumulator, or replacement of the hydraulic system No. 1, inboard brake, and outboard brake accumulators, as specified in Part IV and Part VII of the Canadian Airworthiness Directive CF-2010-24, dated August 3, 2010, this NPRM proposes to require those actions. Also, for airplanes on which Bombardier Service Bulletin 601R-29-035, dated May 11, 2010, is done and reducer having part number MS21916D8-6 installed, this NPRM proposes to require replacing the reducer with a new reducer. We have coordinated with Transport Canada Civil Aviation (TCCA) on this issue.

Relevant Service Information

Bombardier has issued Service Bulletin 601R-29-035, Revision A; and Service Bulletin 601R-32-107, Revision B; both dated December 8, 2010. The actions described in this service information as outlined in the “Discussion” section above, are intended to correct the unsafe condition identified in the MCAI.

Change to Existing AD

This proposed AD would retain all requirements of AD 2010-22-02. Since AD 2010-22-02 was issued, the AD format has been revised, and certain paragraphs have been rearranged. As a result, the corresponding paragraph identifiers have changed in this proposed AD, as listed in the following table:

Revised Paragraph Identifiers
Requirement in AD 2010-22-02 | Corresponding requirement in this proposed AD
paragraph (j) | paragraph (o)
paragraph (k) | paragraph (j)
paragraph (l) | paragraph (k)
paragraph (m) | paragraph (p)
paragraph (n) | paragraph (l)
paragraph (o) | paragraph (m)
paragraph (p) | paragraph (r)
paragraph (q) | paragraph (n)
paragraph (r) | paragraph (s)

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 605 products of U.S. registry.

The actions that are required by AD 2010-22-02 and retained in this proposed AD take about 19 work-hours per product, at an average labor rate of $85 per work hour. Based on these figures, the estimated cost of the currently required actions is $1,615 per product.

We estimate that it would take about 14 work-hours per product to comply with the new basic requirements of this proposed AD. The average labor rate is $85 per work-hour. Required parts would cost about $3,054 per product. Where the service information lists required parts costs that are covered under warranty, we have assumed that there will be no charge for these costs. As we do not control warranty coverage for affected parties, some parties may incur costs higher than estimated here. Based on these figures, we estimate the cost of the proposed AD on U.S. operators to be $2,567,620, or $4,244 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16481 (75 FR 64636, October 20, 2010) and adding the following new AD:

Bombardier, Inc.: Docket No. FAA-2011-0648; Directorate Identifier 2010-NM-276-AD.

Comments Due Date

(a) We must receive comments by August 15, 2011.

Affected ADs

(b) This AD supersedes AD 2010-22-02, Amendment 39-16481.

Applicability

(c) This AD applies to Bombardier, Inc. Model CL-600-2B19 (Regional Jet Series 100 & 440) airplanes, certificated in any category, serial numbers 7003 and subsequent.

Subject

(d) Air Transport Association (ATA) of America Code 29 and 32: Hydraulic Power and Landing Gear, respectively.

Reason

(e) The mandatory continuing airworthiness information (MCAI) states:

Seven cases of on-ground hydraulic accumulator screw cap/end cap failure have been experienced on CL-600-2B19 aeroplanes, resulting in the loss of the associated hydraulic system and high-energy impact damage to adjacent systems and structure. * * *

* * * * *

A detailed analysis of the calculated line of trajectory of a failed screw cap/end cap for each of the accumulators has been conducted, resulting in the identification of several areas where systems and/or structural components could potentially be damaged. Although all of the failures to date have occurred on the ground, an in-flight failure affecting such components could potentially have an adverse effect on the controllability of the aeroplane.

* * * * *

Compliance

(f) You are responsible for having the actions required by this AD performed within the compliance times specified, unless the actions have already been done.

Restatement of Requirements of AD 2010-22-02, With Revised Service Information

Airplane Flight Manual (AFM) Revision

(g) Within 30 days after November 4, 2010 (the effective date of AD 2010-22-02), revise the Limitations section, Normal Procedures section, and Abnormal Procedures section of the AFM by incorporating Canadair Regional Jet Temporary Revision (TR) RJ/186-1, dated August 24, 2010, into the applicable section of Canadair Regional Jet AFM, CSP A-012. Thereafter, except as provided by paragraph (t) of this AD, no alternative actions specified in Canadair Regional Jet TR RJ/186-1, dated August 24, 2010, may be approved.

Note 1: The actions required by paragraph (g) of this AD may be done by inserting a copy of Canadair Regional Jet TR RJ/186-1, dated August 24, 2010, into the applicable section of the Canadair Regional Jet AFM, CSP A-012. When this TR has been included in the general revisions of the AFM, the general revisions may be inserted into the AFM, and this TR removed, provided that the relevant information in the general revision is identical to that in Canadair Regional Jet TR RJ/186-1, dated August 24, 2010.

Deactivation of the Hydraulic System No. 3 Accumulator

(h) Within 250 flight cycles after November 4, 2010, deactivate the hydraulic system No. 3 accumulator, in accordance with Part A of the Accomplishment Instructions of Bombardier Alert Service Bulletin A601R-29-031, Revision A, dated March 26, 2009. Doing the removal of the hydraulic system No. 3 accumulator in paragraph (o) of this AD is an alternate method of compliance with the requirements of this paragraph. The actions in this paragraph apply to all accumulators in hydraulic system No. 3.

Removal of the Hydraulic System No. 2 Accumulator

(i) Within 500 flight cycles after November 4, 2010, remove the hydraulic system No. 2 accumulator, in accordance with the Accomplishment Instructions of Bombardier Service Bulletin 601R-29-032, Revision A, dated January 26, 2010. The actions in this paragraph apply to all accumulators in hydraulic system No. 2.

Initial and Repetitive Ultrasonic Inspection of Hydraulic System No. 1, Inboard Brake, and Outboard Brake Accumulators

(j) For hydraulic system No. 1, inboard brake, and outboard brake accumulators having P/N 601R75138-1 (08-60163-001 or 08-60163-002): At the applicable compliance times specified in paragraph (l) of this AD, do the inspections required by paragraphs (j)(1) and (j)(2) of this AD. Repeat the inspections for each accumulator having P/N 601R75138-1 (08-60163-001 or 08-60163-002) thereafter at intervals not to exceed 500 flight cycles until the replacement specified in this paragraph is done or the replacement specified in paragraph (p) of this AD is done. If any crack is found, before further flight, replace the accumulator with a new accumulator having P/N 601R75138-1 (08-60163-001 or 08-60163-002) and having the letter “T” after the serial number on the identification plate, in accordance with the Accomplishment Instructions of the applicable service bulletin identified in table 1 or table 2 of this AD.

(1) Do an ultrasonic inspection for cracks on each accumulator, in accordance with Part B of the Accomplishment Instructions of the applicable service bulletin identified in table 1 of this AD.

Table 1—Bombardier Service Information for Accumulator Inspection
Accumulator | Document | Revision | Date
Hydraulic System No. 1 | Bombardier Alert Service Bulletin A601R-29-029, including Appendix A, dated October 18, 2007 | B | May 11, 2010.
Inboard and Outboard Brake | Bombardier Alert Service Bulletin A601R-32-103, including Appendix A, Revision A, dated October 18, 2007 | D | May 11, 2010.

(2) Do an ultrasonic inspection for cracks on the screw cap, in accordance with the Accomplishment Instructions of the applicable service bulletin identified in table 2 of this AD.

Table 2—Bombardier Service Information for Screw Cap Inspection
Accumulator | Document | Revision | Date
Hydraulic System No. 1 | Bombardier Service Bulletin 601R-29-033, including Appendix A, dated May 5, 2009 | A | May 11, 2010.
Inboard and Outboard Brake | Bombardier Service Bulletin 601R-32-106, including Appendix A | A | May 11, 2010.

(k) For hydraulic system No. 1, inboard brake, and outboard brake accumulators having P/N 601R75138-1 (08-60163-001 or 08-60163-002): Do the inspections specified in paragraph (j) of this AD at the applicable time in paragraph (k)(1), (k)(2), and (k)(3) of this AD.

(1) For any accumulator not having the letter “T” after the serial number on the identification plate and with more than 4,500 flight cycles on the accumulator as of November 4, 2010: Inspect within 500 flight cycles after November 4, 2010.

(2) For any accumulator not having the letter “T” after the serial number on the identification plate and with 4,500 flight cycles or less on the accumulator as of November 4, 2010: Inspect prior to the accumulation of 5,000 flight cycles on the accumulator.

(3) If it is not possible to determine the flight cycles accumulated for any accumulator not having the letter “T” after the serial number on the identification plate: Inspect within 500 flight cycles after November 4, 2010.

Note 2: For any accumulator having P/N 601R75138-1 (08-60163-001 or 08-60163-002) and the letter “T” after the serial number on the identification plate, or if the accumulator P/N is not listed in paragraph (j) of this AD, the inspection specified in paragraph (j) of this AD is not required.

Credit for Actions Accomplished in Accordance With Previous Service Information

(l) Deactivating the hydraulic system No. 3 accumulator before November 4, 2010, in accordance with Part A of the Accomplishment Instructions of Bombardier Alert Service Bulletin A601R-29-031, dated December 23, 2008, is acceptable for compliance with the requirements of paragraph (h) of this AD.

(m) Removing the hydraulic system No. 2 accumulator in accordance with the Accomplishment Instructions of Bombardier Service Bulletin 601R-29-032, dated November 12, 2009, before November 4, 2010, is acceptable for compliance with the requirements of paragraph (i) of this AD.

(n) An ultrasonic inspection for cracks done before November 4, 2010, in accordance with Part B of the Accomplishment Instructions of the applicable service bulletin identified in table 3 of this AD, or the Accomplishment Instructions of the applicable service bulletin identified in table 4 of this AD, is acceptable for compliance with the corresponding ultrasonic inspection required by paragraph (j) of this AD.

Table 3—Bombardier Credit Service Information for Accumulator Inspection
Document | Revision | Date
Bombardier Alert Service Bulletin A601R-29-029 | Original | October 18, 2007.
Bombardier Alert Service Bulletin A601R-29-029 | A | November 12, 2009.
Bombardier Alert Service Bulletin A601R-32-103 | Original | November 21, 2006.
Bombardier Alert Service Bulletin A601R-32-103 | A | March 7, 2007.
Bombardier Alert Service Bulletin A601R-32-103 | B | October 18, 2007.
Bombardier Alert Service Bulletin A601R-32-103 | C | February 26, 2009.

Table 4—Bombardier Credit Service Information for Screw Cap Inspection
Document | Revision | Date
Bombardier Service Bulletin 601R-29-033 | Original | May 5, 2009.
Bombardier Service Bulletin 601R-32-106 | Original | May 5, 2009.

New Requirements of This AD

Removal of the Hydraulic System No. 3 Accumulator

(o) Within 1,000 flight cycles after the effective date of this AD, remove the hydraulic system No. 3 accumulator, in accordance with Part B of the Accomplishment Instructions of Bombardier Alert Service Bulletin A601R-29-031, Revision A, dated March 26, 2009. Doing the action in this paragraph terminates the requirements of paragraph (h) of this AD.

Replacement of the Hydraulic System No. 1, Inboard Brake, and Outboard Brake Accumulators

(p) Within 4,000 flight cycles or 24 months after the effective date of this AD, whichever occurs first, replace any hydraulic system No. 1, inboard brake, or outboard brake accumulator having P/N 601R75138-1 (08-60163-001 or 08-60163-002), with a new accumulator having P/N 601R75139-1 (11093-4), in accordance with the Accomplishment Instructions of the applicable service bulletin identified in table 5 of this AD. Doing the action in this paragraph terminates the requirement for the inspections in paragraph (j) of this AD for that accumulator. As of the effective date of this AD, use only Bombardier Service Bulletin 601R-29-035, Revision A; or 601R-32-107, Revision B; both dated December 8, 2010; as applicable.

Table 5—Bombardier Service Information for Accumulator Replacement
Accumulator | Document | Revision | Date
Hydraulic System No. 1 | Bombardier Service Bulletin 601R-29-035 | Original | May 11, 2010.
Hydraulic System No. 1 | Bombardier Service Bulletin 601R-29-035 | A | December 8, 2010.
Inboard and Outboard Brake | Bombardier Service Bulletin 601R-32-107 | A | June 17, 2010.
Inboard and Outboard Brake | Bombardier Service Bulletin 601R-32-107 | B | December 8, 2010.

Action for Airplanes on Which Bombardier Service Bulletin 601R-29-035, Dated May 11, 2010 Is Done and Reducer Having P/N MS21916D8-6 Is Installed

(q) For airplanes on which Bombardier Service Bulletin 601R-29-035, dated May 11, 2010, is done, and reducer having P/N MS21916D8-6 is installed: Within 1,200 flight cycles or 8 months after the effective date of this AD, replace the reducer of the hydraulic system No. 1 with a new reducer in accordance with Part B of Bombardier Service Bulletin 601R-29-035, Revision A, dated December 8, 2010.

Credit for Actions Accomplished in Accordance With Previous Service Information

(r) Removing the hydraulic system No. 3 accumulator in accordance with Part B of the Accomplishment Instructions of Bombardier Service Bulletin A601R-29-031, dated December 23, 2008, before November 4, 2010, is acceptable for compliance with the requirements of paragraph (o) of this AD.

(s) Replacing any hydraulic system No. 1, inboard brake, or outboard brake accumulator before November 4, 2010, in accordance with the Accomplishment Instructions of Bombardier Service Bulletin 601R-32-107, dated May 11, 2010, is acceptable for compliance with the corresponding requirements of paragraph (p) of this AD.

FAA AD Differences

Note 3: This AD differs from the MCAI and/or service information as follows: The actions specified in Canadian Airworthiness Directive CF-2010-24, dated August 3, 2010, apply only to Tactair accumulators. The actions required by paragraphs (h), (i), and (o) of this AD apply to all accumulators in the positions specified in paragraphs (h), (i), and (o) of this AD.

Note 4: While Canadian Airworthiness Directive CF-2010-24, dated August 3, 2010, does not require replacement of the reducer of the hydraulic system No. 1 with a new reducer, paragraph (q) of this AD does.

Other FAA AD Provisions

(t) The following provisions also apply to this AD:

(1) Alternative Methods of Compliance (AMOCs): The Manager, New York Aircraft Certification Office (ACO), ANE-170, FAA, has the authority to approve AMOCs for this AD, if requested using the procedures found in 14 CFR 39.19. Send information to Attn: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(u) Refer to MCAI Canadian Airworthiness Directive CF-2010-24, dated August 3, 2010; Canadair Regional Jet Temporary Revision RJ/186-1, dated August 24, 2010 to the Canadair Regional Jet Airplane Flight Manual, CSP A-012; and the service bulletins listed in table 6 of this AD; for related information.

Table 6—Related Service Information
Document | Revision | Date
Bombardier Alert Service Bulletin A601R-29-029 | B | May 11, 2010.
Bombardier Alert Service Bulletin A601R-29-031 | A | March 26, 2009.
Bombardier Alert Service Bulletin A601R-32-103 | D | May 11, 2010.
Bombardier Service Bulletin 601R-29-032 | A | January 26, 2010.
Bombardier Service Bulletin 601R-29-033 | A | May 11, 2010.
Bombardier Service Bulletin 601R-29-035 | A | December 8, 2010.
Bombardier Service Bulletin 601R-32-106 | A | May 11, 2010.
Bombardier Service Bulletin 601R-32-107 | B | December 8, 2010.

Issued in Renton, Washington, on June 16, 2011.
Ali Bahrami,
Manager, Transport Airplane Directorate, Aircraft Certification Service.

[FR Doc. 2011-16365 Filed 6-28-11; 8:45 am]

BILLING CODE 4910-13-P